DEPARTMENT OF COMMERCE

Submission for OMB Review; Comment Request

The Department of Commerce will submit to the Office of Management and Budget (OMB) for clearance the following proposal for collection of information under the provisions of the Paperwork Reduction Act of 1995, Pub. L. 104-13 (44 U.S.C. 3506 (c)(2)(A)).

Bureau: International Trade Administration (ITA).

Title: Commercial Service Market Segmentation Study of Moderate U.S. Exporters Focus Groups.

Agency Form Number: ITA-XXXX.

OMB Number: None.

Type of Request: Regular Submission.

Burden: 108 hours.

Number of Respondents: 72.

Average Hours per Response: 1.5 hours.

Needs and Uses: Expanding U.S. exports is a national priority essential to improving U.S. trade performance. The Department of Commerce, ITA, U.S. Commercial Service (CS) serves as the key U.S. government agency responsible for promoting exports of goods and services from the United States, particularly by small and medium-sized enterprises, and assisting U.S. exporters in their dealings with foreign governments. The CS is mandated by the Government Performance and Results Act of 1993 and the President's Management Agenda Fiscal Year 2002 to improve program performance and achieve better results for the American people. In accordance with these mandates, the CS needs to address the weaknesses and opportunities for improvement identified by the Office of Management and Budget's 2003 Program Assessment Rating Tool (PART). To address these weaknesses and opportunities and in an effort to remain relevant to the marketplace and optimize our respective operations, the Commercial Service, Manufacturing Extension Partnership (MEP), Census Bureau (Census), and Export-Import Bank (Ex-Im) have embarked on a market segmentation research study of moderate U.S. exporters. The objectives are to gain market knowledge and generate statistically valid characterizations about the needs and buying behavior of exporting companies, with a particular focus on Moderate exporters, which are defined as those U.S. firms that currently export, but on a limited or reactive basis and whose international sales comprise less than 10% of total sales or whose international sales growth is less than 10% per year. Respondents benefit from the collection of this information because it will be used to improve services provided to the public. Without this information, the CS/MEP/Census/Ex-Im team is unable to systematically determine the needs, attitudes and behaviors of U.S. exporters. This effort will gather statistically valid market intelligence on SME attitudes and behaviors vis-à-vis making international sales and working with a government consultant.

Affected Public: U.S. companies that are recruited by Pacific Consulting Group, the vendor hired by the U.S. Commercial Service for this research.

Frequency: One time.

Respondent's Obligation: Voluntary.

OMB Desk Officer: David Rostker, (202) 395-3897.

Copies of the above information collection can be obtained by calling or writing Diana Hynek, Departmental Paperwork Clearance Officer, (202) 482-0266, Department of Commerce, Room 6625, 14th and Constitution Avenue, NW., Washington, DC 20230. E-mail: dHynek@doc.gov.

Written comments and recommendations for the proposed information collection should be sent to David Rostker, OMB Desk Officer, David_Rostker@omb.eop.gov or fax (202) 395-7285 within 30 days of the publication of this notice in the Federal Register.

Dated: February 22, 2007.
Gwellnar Banks,
Management Analyst, Office of the Chief Information Officer.

[FR Doc. E7-3430 Filed 2-27-07; 8:45 am]

BILLING CODE 3510-FP-P